ENVIRONMENTAL PROTECTION AGENCY

[EPA-HQ-OAR-2005-0172; FRL-8198-8]

Draft Staff Paper for Ozone

AGENCY: Environmental Protection Agency (EPA).

ACTION: Notice of a draft for public review and comment.

SUMMARY: On or about July 18, 2006, the Office of Air Quality Planning and Standards (OAQPS) of EPA will make available for public review and comment a draft document, Review of the National Ambient Air Quality Standards for Ozone: Policy Assessment of Scientific and Technical Information (Draft Staff Paper) (Chapters 1-5 and 7-8). Chapter 6 (Staff Conclusions on the Primary Ozone National Ambient Air Quality Standards) of the Draft Staff Paper will be made available on or about July 25, 2006. The purpose of the Staff Paper is to evaluate the policy implications of the key scientific and technical information contained in a related EPA document, Air Quality Criteria for Ozone and Related Photochemical Oxidants, required under sections 108 and 109 of the Clean Air Act (CAA) for use in the periodic review of the national ambient air quality standards (NAAQS) for ozone.

The OAQPS also will make available for public review and comment related draft technical support documents, Ozone Population Exposure Analysis for Selected Urban Areas (draft Exposure Analysis), Ozone Health Risk Assessment for Selected Urban Areas (draft Risk Assessment), and Technical Report on Ozone Exposure, Risk and Impact Assessments for Vegetation (draft Environmental Assessment).

Availability of Documents

The following documents are available for review by the CASAC Ozone Panel in the form of printed copies and a CD-ROM containing these electronic files or by downloading the documents from the EPA Web site:­ http://www.epa.gov/ttn/naaqs/standards/ozone/s_o3_cr_sp.html for the Staff Paper and http://www.epa.gov/ttn/naaqs/standards/ozone/s_o3_cr_td.html for the technical support documents and staff memos.

DATES: Comments on the Draft Staff Paper, draft Exposure Analysis, draft Risk Assessment, and draft Environmental Assessment should be submitted on or before September 18, 2006.

ADDRESSES: Submit your comments, identified by Docket ID No. EPA-HQ-OAR-2005-0172 by one of the following methods:

• www.regulations.gov: Follow the on-line instructions for submitting comments.

• E-mail: a-and-r-Docket@epa.gov.

• Fax: 202-566-1741.

• Mail: Docket EPA-HQ-OAR-2005-0172, Environmental Protection Agency, Mailcode 6102T, 1200 Pennsylvania Ave., NW., Washington, DC 20460. Please include a total of two copies.

• Hand Delivery: Public Reading Room, Room B102, EPA West Building, 1301 Constitution Avenue, NW., Washington, DC. Such deliveries are only accepted during the Docket's normal hours of operation, and special arrangements should be made for deliveries of boxed information.

Instructions: Direct your comments to Docket ID No. EPA-HQ-OAR-2005-0172. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the address listed above for hand delivery of comments. This Docket Facility is open from 8:30 a.m. to 4:30 p.m. Monday through Friday, excluding legal holidays. The Docket telephone number is 202-566-1742.

FOR FURTHER INFORMATION CONTACT: Dr. David McKee, Office of Air Quality Planning and Standards (Mail Code C504-06), U.S. Environmental Protection Agency, Research Triangle Park, NC 27711; e-mail: mckee.dave@epa.gov; telephone: (919) 541-5288; fax: (919) 541-0237.

SUPPLEMENTARY INFORMATION:

I. What Should I Consider as I Prepare My Comments for EPA?

1. Submitting CBI. Do not submit this information to EPA through www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background on the Ozone NAAQS Review

Section 108(a) of the CAA directs the Administrator to identify certain pollutants which “may reasonably be anticipated to endanger public health and welfare” and to issue air quality criteria for them. These air quality criteria are to “accurately reflect the latest scientific knowledge useful in indicating the kind and extent of all identifiable effects on public health or welfare which may be expected from the presence of [a] pollutant in the ambient air * * *” Under section 109 of the CAA, EPA is then to establish NAAQS for each pollutant for which EPA has issued criteria. Section 109(d) of the CAA subsequently requires periodic review and, if appropriate, revision of existing air quality criteria to reflect advances in scientific knowledge on the effects of the pollutant on public health and welfare. Also, EPA is to retain or, if appropriate revise, the NAAQS based on the revised criteria, which have undergone review by the Clean Air Scientific Advisory Committee (CASAC).

The CASAC, which is comprised of seven members appointed by the EPA Administrator, was established under section 109(d)(2) of the CAA (42 U.S.C. 7409) as an independent scientific advisory committee, in part to provide advice, information, and recommendations on the scientific and technical aspects of issues related to air quality criteria and NAAQS under sections 108 and 109 of the CAA. The CASAC is a Federal advisory committee under the Federal Advisory Committee Act (FACA), as amended, 5 U.S.C., App. The CASAC Ozone Review Panel consists of the members of the chartered CASAC, is supplemented by subject-matter experts, and complies with the provisions of FACA.

Ozone is one of six “criteria” pollutants for which EPA has established air quality criteria and NAAQS. Presently, EPA is reviewing the criteria and NAAQS for ozone. This review includes preparation of two key documents, the Air Quality Criteria for Ozone and Related Photochemical Oxidants (“Criteria Document”) and a related “Staff Paper.” The purpose of the Staff Paper is to evaluate the policy implications of the key scientific and technical information contained in the Criteria Document and identify critical elements that EPA staff believe should be considered in reviewing the NAAQS. The Staff Paper is intended to “bridge the gap” between the scientific review contained in the Criteria Document and the public health and welfare policy judgments required of the Administrator in reviewing the NAAQS.

In January 2005, a first external review draft of the Criteria Document was released by EPA for public review and comment and for review by the CASAC of EPA's Science Advisory Board (70 FR 4850, January 31, 2005) at a public meeting held in May 2005. Comments received from review of the first draft document were considered in preparing the second draft Criteria Document released for public review and comment in August 2005 (70 FR 51810, August 31, 2005). Based on this document, the first Draft Staff Paper was released in November 2005 (70 FR 69761, November 17, 2005), and reviewed at a public meeting on December 8, 2005. Based on the information contained in the final Criteria Document, released in March 2006 (71 FR 10030, February 28, 2006), the second Draft Staff Paper includes assessments and analyses related to: (1) Air quality characterization; (2) integration and evaluation of health information; (3) exposure analysis; (4) health risk assessment; and (5) evaluation of information on vegetation damage and other welfare effects. The second Draft Staff Paper contains staff conclusions and options with respect to possible retention or revision of the current primary (health-based) and secondary (welfare-based) standards and identifies alternative standards for consideration by the Administrator.

The draft Exposure Analysis, Risk Assessment and Environmental Assessment technical support documents describe and present the results from an ozone exposure analysis and health risk assessment in several urban areas, and the impact of ozone on the environment. Draft plans upon which these assessments are based, the Ozone Health Assessment Plan: Scope and Methods for Exposure Analysis and Risk Assessment and the Scope and Methods for Environmental Assessment Plan, were previously reviewed by CASAC and the public. Comments received on those plans have been considered in developing the draft Exposure Analysis, Risk Assessment and Environmental Assessment technical support documents being released at this time. The exposure analysis, risk assessment, and environmental assessment methodologies and results are also discussed in the second Draft Staff Paper.

The EPA is soliciting advice and recommendations from the CASAC by means of a peer review of the second Draft Staff Paper and drafts of the Exposure Analysis, Risk Assessment, and Environmental Assessment at an upcoming public meeting of the CASAC scheduled for August 24 and 25, 2006. A Federal Register notice will inform the public of the location of that meeting. Following the CASAC meeting, EPA will consider comments received from CASAC and the public in preparing a final Staff Paper and final Exposure Analysis, Risk Assessment, and Environmental Assessment technical support documents.

Dated: July 13, 2006.
Mary E. Henigin,
Acting Director, Office of Air Quality Planning and Standards.

[FR Doc. E6-11343 Filed 7-17-06; 8:45 am]

BILLING CODE 6560-50-P